DEPARTMENT OF COMMERCE

[I.D. 011102E]

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Alaska Marine Sport Fishing Economics Survey.

Form Number(s): None.

OMB Approval Number: None.

Type of Request: Regular submission.

Burden Hours: 1.048.

Number of Respondents: 3,740.

Average Hours Per Response: 20 minutes to respond to a mail survey; 5 minutes to respond to a follow-up phone survey.

Needs and Uses: The survey data is necessary to conduct required economic analyses of marine sport fisheries off Alaska. This data is currently not available for many areas and fisheries in Alaska. The survey data will be used to estimate the economic value of fishing to anglers, and how catch rates and fishery regulations affect that value. The respondents will be drawn from a random sample of U.S. residents who purchased an Alaska State sport fishing license in 2001. Follow-up calls will be made to people not responding to a mail survey.

Affected Public: Individuals or households.

Frequency: One-time.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1142 Filed 1-15-02; 8:45 am]

BILLING CODE 3510-22-S